DEPARTMENT OF EDUCATION

Privacy Act of 1974; Computer Matching Program

AGENCY: Department of Education.

ACTION: Notice—Computer matching between the Department of Education and the Department of Justice.

SUMMARY: Section 421(a)(1) of the Controlled Substances Act (21 U.S.C. 862(a)(1)) includes provisions regarding the judicial denial of Federal benefits. Section 421 of the Controlled Substances Act, which was originally enacted as section 5301 of the Anti-Drug Abuse Act of 1988, and which was amended and redesignated as section 421 of the Controlled Substances Act by section 1002(d) of the Crime Control Act of 1990, Public Law 101-647 (hereinafter referred to as “section 5301”), authorizes Federal and State judges to deny certain Federal benefits (including student financial assistance under Title IV of the Higher Education Act of 1965, as amended (HEA)) to individuals convicted of drug trafficking or possession of a controlled substance.

In order to ensure that Title IV, HEA student financial assistance is not awarded to individuals subject to denial of benefits under court orders issued pursuant to section 5301, the Department of Justice and the Department of Education implemented a computer matching program. The 18-month computer matching agreement (CMA) was recertified for an additional 12 months on December 19, 2009. The 12-month recertification of the CMA will automatically expire on December 17, 2010.

The Department of Education must continue to obtain from the Department of Justice identifying information regarding individuals who are the subject of section 5301 denial of benefits court orders for the purpose of ensuring that Title IV, HEA student financial assistance is not awarded to individuals subject to denial of benefits under court orders issued pursuant to the Denial of Federal Benefits Program. The purpose of this notice is to announce the continued operation of the computer matching program and to provide certain required information concerning the computer matching program.

In accordance with the Privacy Act of 1974 (5 U.S.C. 552a), as amended by the Computer Matching and Privacy Protection Act of 1988 (Pub. L. 100-503) and Office of Management and Budget (OMB) Guidelines on the Conduct of Matching Programs (54 FR 25818, June 19, 1989), and OMB Circular A-130, the following information is provided:

1. Names of Participating Agencies.

The Department of Education (ED) (recipient agency) and the Department of Justice (DOJ) (source agency).

2. Purpose of the Match.

The purpose of this matching program is to ensure that the requirements of section 421 of the Controlled Substances Act (originally enacted as section 5301 of the Anti-Drug Abuse Act of 1988, Pub. L. 100-690, 21 U.S.C. 853a, which was amended and redesignated as section 421 of the Controlled Substances Act by section 1002(d) of the Crime Control Act of 1990, Pub. L. 101-647) (hereinafter referred to as “section 5301”), are met.

DOJ is the lead contact agency for information related to section 5301 violations and, as such, provides this data to ED. ED (recipient agency) seeks access to the information contained in the DOJ (source agency) Denial of Federal Benefits Clearinghouse System (DEBARS) database that is authorized under section 5301 for the purpose of ensuring that Title IV, HEA student financial assistance is not awarded to individuals subject to denial of benefits under court orders issued pursuant to the Denial of Federal Benefits Program.

3. Authority for Conducting the Matching Program.

Under section 5301, ED must deny Federal benefits to any individual upon whom a Federal or State court order has imposed a penalty denying eligibility for those benefits. Student financial assistance under Title IV of the HEA is a Federal benefit under section 5301, and ED must, in order to meet its obligations under the HEA, have access to information about individuals who have been declared ineligible under section 5301.

While DOJ provides information about section 5301 individuals who are ineligible for Federal benefits to the General Services Administration (GSA) for inclusion in GSA's List of Parties Excluded from Federal Procurements and Nonprocurement Programs, DOJ and ED have determined that matching against the DOJ database is more efficient and effective than access to the GSA List. The DOJ database has specific information about the Title IV, HEA programs for which individuals are ineligible, as well as the expiration of the debarment period, making the DOJ database more complete than the GSA List. Both of these elements are essential for a successful match.

4. Categories of Records and Individuals Covered by the Match.

ED will submit, for verification, records from its Central Processing System files (Federal Student Aid Application File (18-11-01)), the Social Security number (SSN), and other identifying information for each applicant for Title IV, HEA student financial assistance. ED will use the SSN, date of birth, and the first two letters of an applicant's last name for the match.

The DOJ DEBARS system contains the names, SSNs, dates of birth, and other identifying information regarding individuals convicted of Federal or State offenses involving drug trafficking or possession of a controlled substance who have been denied Federal benefits by Federal or State courts. This system of records also contains information concerning the specific program or programs for which benefits have been denied, as well as the duration of the period of ineligibility. DOJ will make available for the matching program the records of only those individuals who have been denied Federal benefits under one or more of the Title IV, HEA programs.

5. Effective Dates of the Matching Program.

The matching program will be effective on the last of the following dates: (1) December 18, 2010, the day after the expiration of the current CMA; (2) thirty (30) days after notice of the matching program has been published in the Federal Register; or (3) forty (40) days after a report concerning the matching program has been transmitted to OMB and transmitted to the Congress along with a copy of this agreement, unless OMB waives 10 days of this 40-day period for compelling reasons shown, in which case, 30 days after transmission of the report to OMB and Congress.

The matching program will continue for 18 months after the effective date of the CMA and may be extended for an additional 12 months thereafter, if the conditions specified in 5 U.S.C. 552a(o)(2)(D) have been met.

6. Address for Receipt of Public Comments or Inquiries.

Leroy Everett, Management and Program Analyst, U.S. Department of Education, Federal Student Aid, Union Center Plaza, 830 First Street, NE., Washington, DC 20202-5454. Telephone: (202) 377-3265. If you use a telecommunications device for the deaf (TDD), call the Federal Relay Service (FRS), toll free, at 1-800-877-8339.

Individuals with disabilities can obtain this document in an accessible format (e.g., Braille, large print, audiotape, or computer diskette) by contacting the contact person listed in the preceding paragraph.

Electronic Access to This Document

You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO access at: http://www.gpoaccess.gov/nara/index.html.

Authority: 5 U.S.C. 552a; 21 U.S.C. 862(a)(1).

Dated: November 10, 2010.
James F. Manning,
Chief of Staff, Federal Student Aid, U.S. Department of Education.

[FR Doc. 2010-28856 Filed 11-15-10; 8:45 am]

BILLING CODE 4000-01-P